DEPARTMENT OF HOMELAND SECURITY

Coast Guard

[Docket No. USCG-2018-0876]

Merchant Marine Personnel Advisory Committee; Vacancies

AGENCY: U.S. Coast Guard, Department of Homeland Security.

ACTION: Request for applications.

SUMMARY: The U.S. Coast Guard seeks applications for membership on the Merchant Marine Personnel Advisory Committee. This Committee acts solely in an advisory capacity to the Secretary of the Department of Homeland Security through the Commandant of the U.S. Coast Guard on matters relating to personnel in the United States merchant marine, including training, qualifications, certification, documentation, and fitness standards and other matters as assigned by the Commandant. The Committee advises, consults with, and makes recommendations reflecting its independent judgment to the Secretary and may make available to Congress recommendations that the Committee makes to the Secretary. In addition, the committee may be given special assignments by the Secretary and may conduct studies, inquiries, workshops, and fact finding in consultation with individuals and groups in the private sector and with State or local governments.

DATES: Completed applications should be submitted to the U.S. Coast Guard on or before February 4, 2019.

ADDRESSES: Applicants should send a cover letter expressing interest in an appointment to the Merchant Marine Personnel Advisory Committee that identifies the applicant's preferred membership category along with a resume detailing the applicant's experience by one of the following methods:

• By Email: davis.j.breyer@uscg.mil, (preferred) Subjectline: The Merchant Marine Personnel Advisory Committee;

• By Fax: 202-372-8382 ATTN: Mr. Davis J. Breyer, Alternate Designated Federal Officer; or

• By Mail: Mr. Davis J. Breyer, Alternate Designated Federal Officer of the Merchant Marine Personnel Advisory Committee, Commandant (CG-MMC-1)/MERPAC, U.S. Coast Guard, 2703 Martin Luther King Jr. Ave SE, Stop 7509, Washington, DC 20593-7509.

FOR FURTHER INFORMATION CONTACT: Mr. Davis J. Breyer, Alternate Designated Federal Officer of the Merchant Marine Personnel Advisory Committee, Commandant, (CG-MMC-1)/MERPAC, U.S. Coast Guard, 2703 Martin Luther King Jr. Ave SE, Stop 7509, Washington, DC 20593-7509, telephone 202-372-1445, fax 202-372-8382 or davis.j.breyer@uscg.mil.

SUPPLEMENTARY INFORMATION: The Merchant Marine Personnel Advisory Committee is a federal advisory committee established in accordance with the provisions of the Federal Advisory Committee Act (Title 5 U.S.C. Appendix) and 46 U.S.C. 8108.

The Committee meets at least twice each year. Its subcommittees and working groups may hold additional meetings as needed to consider specific tasks.

Each Committee member serves a term of office of up to three years. Members may serve a maximum of two consecutive terms. All members serve at their own expense and receive no salary or other compensation from the Federal Government. Members may be reimbursed for travel and per diem in accordance with Federal Travel Regulations.

We will consider applications for the following four positions that will be vacant on June 1, 2019. To be eligible, you must have the experience listed for the applicable membership position:

(1) One position for a member who serves as a representative of merchant marine engineering officers. To be eligible, you must be licensed as either a limited chief engineer or a designated duty engineer;

(2) One position for a member who serves as a representative of qualified members of the engine department. To be eligible, you must hold a current merchant mariner credential with an engineering rating endorsement;

(3) One position for a member who serves as a representative of shipping companies employed in ship operation management. To be eligible, you must show that you have significant knowledge and experience of shipping companies and ship operation management; and

(4) One position for a member who serves as a representative of the state maritime academies, as identified in 46 CFR 310 subpart A. To be eligible, you must be jointly recommended by such state maritime academies.

Each member will be appointed as Representative, and are not appointed in their individual capacity.

The Department of Homeland Security does not discriminate in the selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. Davis J. Breyer, Alternate Designated Federal Officer of the Merchant Marine Personnel Advisory Committee via one of the transmittal methods in the ADDRESSES section by the deadline in the DATES section of this notice. All email submittals will receive email receipt confirmations.

Dated: November 29, 2018.
Jeffrey G. Lantz,
Director of Commercial Regulations and Standards.

[FR Doc. 2018-26420 Filed 12-4-18; 8:45 am]

BILLING CODE 9110-04-P